DEPARTMENT OF LABOR

29 CFR Parts 29 and 30

RIN 1205-AB59

Apprenticeship Programs; Equal Employment Opportunity; Extension of Comment Period

AGENCY: Employment and Training Administration, Labor.

ACTION: Proposed rule; extension of comment period.

SUMMARY: The Department of Labor (Department) issued a proposed rule in the Federal Register of November 6, 2015 [80 FR 68907], concerning proposed updates to the equal opportunity regulations that implement the National Apprenticeship Act of 1937. This document extends the comment period an additional 15 days, from January 5, 2016, to January 20, 2016. The Department received a request for additional time to develop comments on the proposed rulemaking. The Department is therefore extending the comment period in order to give all interested persons the opportunity to comment fully.

DATES: Interested persons are invited to submit written comments on the proposed rule on or before January 20, 2016. The comment period for the proposed rule published on November 6, 2015 (80 FR 68907) is extended. Comments, identified by RIN 1205-AB59, must be received on or before January 20, 2016.

ADDRESSES: You may submit comments, identified by Regulatory Information Number (RIN) 1205-AB59, by any one of the following methods:

• Federal e-Rulemaking Portal www.regulations.gov. Follow the Web site instructions for submitting comments.

• Mail or Hand Delivery/Courier: Please submit all written comments (including disk and CD-ROM submissions) to Adele Gagliardi, Administrator, Office of Policy Development and Research, Employment and Training Administration, U.S. Department of Labor, 200 Constitution Avenue NW., Room N-5641, Washington, DC 20210.

Please submit your comments by only one method and within the designated comment period. Comments received by means other than those listed above or received after the comment period has closed will not be reviewed. The Department will post all comments received on http://www.regulations.gov without making any change to the comments, including any personal information provided. The http://www.regulations.gov Web site is the Federal e-rulemaking portal and all comments posted there are available and accessible to the public. The Department cautions commenters against including personal information such as Social Security Numbers, personal addresses, telephone numbers, and email addresses in their comments as such information will become viewable by the public on the http://www.regulations.gov Web site. It is the commenter's responsibility to safeguard his or her information. Comments submitted through http://www.regulations.gov will not include the commenter's email address unless the commenter chooses to include that information as part of his or her comment. Postal delivery in Washington, DC, may be delayed due to security concerns. Therefore, the Department encourages the public to submit comments through the http://www.regulations.gov Web site.

Docket: For access to the docket to read background documents or comments received, go to the Federal eRulemaking portal at http://www.regulations.gov. The Department will also make all the comments it receives available for public inspection during normal business hours at the Employment and Training Administration's (ETA) Office of Policy Development and Research at the above address. If you need assistance to review the comments, the Department will provide you with appropriate aids such as readers or print magnifiers. The Department will make copies of the rule available, upon request, in large print and as an electronic file on computer disk. The Department will consider providing the proposed rule in other formats upon request. To schedule an appointment to review the comments and/or obtain the rule in an alternate format, contact the ETA Office of Policy Development and Research at (202) 693-3700 (VOICE) (this is not a toll-free number) or 1-877-889-5627 (TTY/TDD).

FOR FURTHER INFORMATION CONTACT: Adele Gagliardi, Office of Policy Development and Research, ETA, U.S. Department of Labor, 200 Constitution Avenue NW., Room N-5641, Washington, DC 20210; Telephone (202) 693-3700 (this is not a toll-free number). Individuals with hearing or speech impairments may access the telephone number above via TTY by calling the toll-free Federal Information Relay Service at 1-800-877-8339.

SUPPLEMENTARY INFORMATION: This document extends the public comment period established in the Federal Register proposed rule of November 6, 2015. In that document, the Department proposed amendments to its regulations governing equal opportunity regulations that implement the National Apprenticeship Act of 1937. These regulations prohibit discrimination in registered apprenticeship on the basis of race, color, religion, national origin, and sex, and require that sponsors of registered apprenticeship programs take affirmative action to provide equal opportunity in such programs. The Department is hereby extending the comment period, which was set to end on January 5, 2016 to January 20, 2016.

List of Subjects in 20 CFR Parts 29 and 30

Administrative practice and procedure, Apprenticeship, Employment, Equal employment opportunity, Reporting and recordkeeping requirements, Training.

Portia Wu,
Assistant Secretary, Employment and Training Administration.

[FR Doc. 2015-32310 Filed 12-23-15; 8:45 am]

BILLING CODE 4510-FP-P